DEPARTMENT OF DEFENSE

Department of the Army

Performance Review Boards Membership

Correction

In notice document 02-29882 beginning on page 70584 in the issue of Monday, November 25, 2002, make the following correction:

On page 70585, in the first column, after paragraph (b), in item number 3, in the first line, “Dr. C.I. Change” should read, “Dr. C.I. Chang”.

[FR Doc. C2-29882 Filed 12-3-02; 8:45 am]

BILLING CODE 1505-01-D

DEPARTMENT OF ENERGY

Office of Energy Efficiency and Renewable Energy

10 CFR Part 431

[Docket No. EE-RM-96-400]

RIN 1904-AB11

Energy Efficiency Program for Certain Commercial and Industrial Equipment: Extension of Time for Electric Motor Manufacturers To Certify Compliance With Energy Efficiency Standards

Correction

In rule document 02-29969 beginning on page 70677 in the issue of Tuesday, November 26, 2002, make the following correction:

§ 431.123 [Corrected]

On page 70678, in the first column, in § 431.123, in paragraph (g), in the third line, “February 28, 2003” should read, “April 30, 2003”.

[FR Doc. C2-29969 Filed 12-3-02; 8:45 am]

BILLING CODE 1505-01-D

DEPARTMENT OF THE TREASURY

Internal Revenue Service

26 CFR Part 1

[TD 9020]

RIN 1545-BB19

Substantiation of Incidental Expenses

Correction

In rule document 02-28543 beginning on page 68512 in the issue of Tuesday, November 12, 2002 make the following correction:

§ 1.274-5T [Corrected]

On page 68513, in the second column, in §1.274-5T, in paragraph (j)(1) and (2), in the second line, “see” should read, “see”.

[FR Doc. C2-28543 Filed 12-3-02; 8:45 am]

BILLING CODE 1505-01-D